DEPARTMENT OF COMMERCE

National Oceanic and Atmospheric Administration

[I.D. 072700D]

Availability of an Environmental Assessment and Receipt of an Application for Incidental Take Permits for the Roseton and Danskammer Point Generating Stations Conservation Plan, Hudson River, New York

AGENCY: National Marine Fisheries Service (NMFS), National Oceanic and Atmospheric Administration(NOAA), Commerce.

ACTION: Notice of application and availability for public comments.

SUMMARY: This notice advises the public that Central Hudson Gas & Electric Corporation (CHGE) has submitted an application to the National Marine Fisheries Service (NMFS) for an incidental take permit (Permit) pursuant to the Endangered Species Act of 1973, as amended (Act). As required by the Act, the applicant has also prepared a Conservation Plan (Plan) designed to minimize and mitigate any such take of endangered or threatened species. The proposed permit would authorize the take of one endangered species: shortnose sturgeon (Acipenser brevirostrum). The duration of the proposed Permit and Plan is 15 years.

NMFS also announces the availability of a draft Environmental Assessment (EA) and Implementing Agreement for this Permit application. The NMFS is providing this notice in order to allow other agencies and the public an opportunity to review and comment on these documents.

DATES: Written comments on the Conservation Plan, EA, and Implementing Agreement must be received from interested parties no later than September 8, 2000.

ADDRESSES: Written comments on any of the new applications or modification requests should be sent to Mary Colligan, Endangered Species Coordinator, NMFS Northeast Region, One Blackburn Drive, Gloucester, MA 01930. Comments may also be sent via fax. Comments will not be accepted if submitted via e-mail or the Internet.

Comments and materials received will also be available for public inspection, by appointment, during regular business hours by calling 978-281-9116. The documents are also available electronically on the World Wide Web at [http://www.nmfs.noaa.gov/prot_res/permits/ESApermit.html].

FOR FURTHER INFORMATION CONTACT: Mary Colligan; telephone 978-281-9116; 978-281-9394; e-mail: Mary.A.Colligan@noaa.gov

SUPPLEMENTARY INFORMATION: Section 9 of the Act and Federal regulations prohibit the “taking” of a species listed as endangered or threatened. The term “take” is defined under the Act to mean harass, harm, pursue, hunt, shoot, wound, kill, trap, capture, or collect, or attempt to engage in any such conduct. “Harm” has been defined by NMFS as an act that actually kills or injures fish or wildlife, and includes any significant habitat modification or degradation that significantly impairs essential behavioral patterns of fish or wildlife, including breeding, spawning, rearing, feeding, or sheltering (64 FR 60727, November 8, 1999).

The NMFS may issue permits, under limited circumstances, to take listed species incidental to, and not the purpose of, otherwise lawful activities. NMFS regulations governing permits for threatened and endangered species are promulgated at 50 CFR 222.307.

The Permit application is related to the continued operation of two power plants on the Hudson River, the Roseton and Danskammer Point power plants, both of which are operated by CHGE. The Permit application includes the following: (1) the proposed Conservation Plan; and (2) the proposed Implementing Agreement. This notice is provided pursuant to the ESA, and National Environmental Policy Act (NEPA) regulations.

Details of a separate request by CHGE for a scientific research permit pursuant to section 10 (a)(1)(A) are also provided in the Conservation Plan. All comments received will become part of the official administrative record and will be available for review pursuant to section 10(c) of the Act.

Background

Central Hudson Gas & Electric Company (CHGE) operates the Roseton and Danskammer Point power plants which are located along the Hudson River estuary approximately 65 miles upriver from the southern tip of Manhattan, NY. Shortnose sturgeon have been previously collected in the cooling water withdrawal systems of these power plants. In addition, shortnose sturgeon have been occasionally collected in the biological monitoring program which has been required by the New York State Department of Environmental Conservation as part of the State Pollution Discharge Elimination System permit for the operation of power plants on the Hudson River, including the Roseton project. The collection of shortnose sturgeon under this biological monitoring program is covered under a separate application for an ESA Scientific Research Permit under section 10(a)(1)(A).

Section 10 of the ESA contains provisions for the issuance of Permits to non-Federal land owners for the take of endangered and threatened species, provided the take is incidental to otherwise lawful activities and will not appreciably reduce the likelihood of the survival and recovery of the species in the wild. In addition, the applicant must prepare and submit to the NMFS for approval a Conservation Plan containing a strategy for minimizing and mitigating all take associated with the proposed activities to the maximum extent practicable. The applicant must also ensure that adequate funding for the Conservation Plan will be provided.

The Roseton Generating Station is located on the west shore of the Hudson River Estuary at river mile (RM) 66 and approximately four miles north of the Newburgh-Beacon Bridge. The plant consists of two fossil-fueled, steam electric units, having a combined net generating capacity of 1,248 megawatts (MW). Roseton has a shoreline intake structure with 12 openings on the front face. Trash racks and traveling screens have been installed at the plant.

The Danskammer Point Generating Station is located on the west shore of the Hudson River Estuary at RM 66, approximately 0.5 miles north of the Roseton Generating Station. Danskammer consists of four fossil-fueled, steam electric units, having a net generating capacity rating per unit ranging from 480 to 491 MW. Cooling water is transported to the plant through an intake canal located along the Estuary shoreline north of the plant.

The operation of the Roseton and Danskammer power plants requires withdrawal of large quantities of water for cooling purposes, and the subsequent discharge of this cooling water, at an increased temperature, back to the source waterbody. The use of cooling water could cause mortality of shortnose sturgeon from entrainment and impingement at the cooling water intake or from effects of the discharge.

A total of four, or possibly eight if unidentified sturgeon larvae are included, shortnose sturgeon larvae were collected in entrainment monitoring conducted at six power plants (including Roseton and Danskammer Point) over a 16-year study period (1972-1987). Intensive monitoring, conducted from 1981-1987, entailed sampling nearly 24-hours per day, 4 to 7 days per week, during the spring. The low number of larvae entrained is likely primarily due to the fact that spawning and larval nursery areas occur many miles upstream (RM 118-148) from the plants.

The estimated average number of shortnose sturgeon impinged at Roseton and Danskammer Point is seven individuals per year. A total of 29 shortnose sturgeon were collected at Roseton and Danskammer Point power plants over the 27-year sampling period (1972-1998). In general, weekly 24-hour sampling was conducted to examine the abundance and species composition of impinged organisms.

Alternatives to the proposed action that were considered in the Conservation Plan included alternative means of utilizing the existing once-through cooling water systems, replacement of the once-through cooling water systems with closed-cycle technologies, and alternative screening technologies. The alternative of targeting reductions in water withdrawal rates in an effort to reduce the entrainment or impingement of shortnose sturgeon was determined to not be feasible as the rare entrainment and impingement events cannot be predicted. Closed-cycle cooling systems, including cooling ponds, spray ponds or cooling towers were considered. Sufficient lands are not available for cooling ponds or spray ponds. Cooling towers were rejected due to the concerns over potential impacts from fogging or icing from the cooling tower plume drift, visual impacts, evaporation, drift, blowdown, sludge formation and noise, costs, and lack of significant benefit to shortnose sturgeon. Screening alternatives were considered, but fine-mesh screens were rejected due to engineering difficulties, potential high costs, and the lack of any apparent benefit to shortnose sturgeon. Barrier nets were considered impractical due to the proximal position of water intakes to strong tidal currents, the water depth, proximity to main river channels, seasonally high debris and sediment loading, and presence of structures located offshore of the intake at some of the facilities. Cylindrical wedge-wire screens were eliminated from consideration due to concerns over reliability, maintenance issues, costs, and uncertainty of the benefits to shortnose sturgeon. Under the no action alternative, no permit would be issued, however take could not be completely avoided by these plants and mitigative measures would not be implemented. Minimization programs for the Roseton and Danskammer Point plants include days of outage, minimizing volumes of cooling water needed, and continued operation of intake screens and fish return systems when associated water pumps are in operation. CHGE proposed to provide an annual count of the number of shortnose sturgeon impinged at each facility based on sampling during one 24-hour period each week of operation. CHGE will conduct a mark-recapture study designed to estimate the size of the adult shortnose sturgeon population in the Hudson River twice during the 15-year term of the permit (permit years 7 and 14).

On May 19, 2000, NMFS' Office of Protected Resources received a complete application from CHGC requesting an ESA section 10(a)(1)(A) scientific research permit for the conduct of monitoring associated with the operation of the Roseton and Danskammer power plants. As required by 50 CFR 222.24 (a), NMFS published a notice of receipt in the Federal Register on June 19, 2000 (65 FR 39869). CHGC has requested approval for the collection of larvae, juvenile, and adult shortnose sturgeon in various location in the Hudson River. The comment period for this research permit application closed on July 23, 2000, and NMFS is currently compiling comments that were received on the application. Details of the research permit application are provided in the Conservation Plan prepared for CHGE's application for an ESA section 10(a)(1)(B) incidental take permit which is announced by this notice.

This notice is provided pursuant to section 10(a) of the ESA and NEPA regulations. The NMFS will evaluate the application, associated documents, and comments submitted to determine whether the application meets the requirements of the Act and NEPA. If it is determined that the requirements are met, permits will be issued for the incidental take of shortnose sturgeon. The final permit decision will be made no sooner than 30 days from the date of this notice.

Authority

Issuance of permits and permit modifications, as required by the Endangered Species Act of 1973 (16 U.S.C. 1531-1543) (ESA), is based on a finding that such permits/modifications: (1) Are applied for in good faith; (2) would not operate to the disadvantage of the listed species which are the subject of the permits; and (3) are consistent with the purposes and policies set forth in section 2 of the ESA. Authority to take listed species is subject to conditions set forth in the permits. Permits and modifications are issued in accordance with and are subject to the ESA and NMFS regulations governing listed fish and wildlife permits (50 CFR parts 222-226).

Dated: August 3, 2000.
Margaret Lorenz,
Acting Chief, Endangered Species Division, Office of Protected Resources, National Marine Fisheries Service.

[FR Doc. 00-20160 Filed 8-8-00; 8:45 am]

BILLING CODE 3510-22-F